DEPARTMENT OF DEFENSE

Department of the Army

Notice of Intent To Prepare a Programmatic Environmental Impact Statement (PEIS) for Land Acquisition, South Texas Training Center (STTC), in McMullen County, TX

AGENCY: National Guard Bureau, Department of the Army, DoD.

ACTION: Notice of intent.

SUMMARY: The Department of the Army intends to prepare a PEIS to analyze the environmental and socioeconomic impacts associated with the proposed land acquisition and use of approximately 22,232 acres for implementation of an RPMP and mission activities in south Texas. The proposed land area, currently in private ownership, would become the STTC. This action will support the training requirements of the TXARNG units located in central and south Texas. The PEIS will analyze alternatives that are deemed feasible to meet the purpose and need for this Proposed Action.

FOR FURTHER INFORMATION CONTACT: Captain Jeff Basa at (512) 782-7924 or by e-mail at txarng.landpurchase@ng.army.mil.

SUPPLEMENTARY INFORMATION: The Army has identified the need for land acquisition and use of approximately 22,232 acres of land to enhance realistic training conditions. No adequate maneuver training land is currently available within a suitable travel time for the three TXARNG Battalions stationed in south Texas. The Army proposes land acquisition of approximately 22,232 acres for additional maneuver training land to meet the training needs of the TXARNG. This additional land will enhance training and will allow Soldiers to train to more realistic standards in preparation for operational deployment at a site located closer to their home communities. The Army Training Division, National Guard Bureau, is the action proponent; the land would be owned by the Army and licensed to the TXARNG.

The TXARNG PEIS will analyze the environmental and socioeconomic impacts of land acquisition to establish the STTC. The land acquisition alternative is located adjacent to and northeast of the existing U.S. Navy-owned Dixie Range in McMullen County. A PEIS is proposed for this analysis to address the implementation of the RPMP, which would consist of a number of construction phases to be implemented over an extended timeframe (estimated 15 to 20 years). This PEIS would analyze the general development of a cantonment area, training areas, and infrastructure support. Separate environmental analyses may be required at a later date, as necessary, for development not covered within this PEIS. The Army No Action Alternative will evaluate the impacts of taking no action to acquire additional training land. Resources and issues that will be evaluated in the PEIS include changes in land use from private hunting lands to military training lands; potential impacts to biological, cultural, and water resources; changes in transportation and traffic in the region. At this point, we do not anticipate any significant impacts. Additional concerns raised during the initial public involvement process will also be addressed in the PEIS.

The Notice of Intent can be viewed at http://www.agd.state.tx.us. Scoping and Public Comment: Federally recognized tribes, federal, state, and local agencies, and the public are invited to participate in the scoping process for the preparation of the PEIS. The scoping process will include one public scoping meeting, which is an opportunity for the public to receive information about the proposed action and alternatives and to assist the Army in identifying potential environmental impacts and key issues of concern to be analyzed in the PEIS. The meeting will be held in McMullen County, Texas. Notification of the time and location for the scoping meeting will be announced in local media sources. To ensure scoping comments are fully considered in the preparation of the PEIS, comments and suggestions should be received within the 30-day scoping period. The public will also be invited to review and comment on the Draft PEIS when it is available for review. Notification letters will be mailed to Native American tribes, federal, state, and local agencies regarding the scoping process and Draft PEIS availability. A public meeting will take place during the comment period on the Draft PEIS and the public will be invited to share their views and concerns. Comments from the public will be considered before any decision is made regarding implementing the proposed action.

Dated: December 13, 2010.
Hershell E. Wolfe,
Acting Deputy Assistant Secretary of the Army (Environment, Safety, and Occupational Health).

[FR Doc. 2010-32176 Filed 12-22-10; 8:45 am]

BILLING CODE 3710-08-P